DEPARTMENT OF THE INTERIOR

Fish and Wildlife Service

Endangered Species Recovery Permit Applications

AGENCY: Fish and Wildlife Service, Interior.

ACTION: Notice of receipt of permit applications; request for comment.

SUMMARY: We invite the public to comment on the following applications to conduct certain activities with endangered species.

DATES: Comments on these permit applications must be received on or before June 28, 2007.

ADDRESSES: Written data or comments should be submitted to the U.S. Fish and Wildlife Service, Endangered Species Program Manager, California/Nevada Operations Office (CNO), 2800 Cottage Way, Room W-2606, Sacramento, California, 95825 (telephone: 916-414-6464; fax: 916-414-6486). Please refer to the respective permit number for each application when submitting comments. All comments received, including names and addresses, will become part of the official administrative record and may be made available to the public.

FOR FURTHER INFORMATION CONTACT: Daniel Marquez, Fish and Wildlife Biologist, at the above CNO address, (telephone: 760-431-9440; fax: 760-431-9624).

SUPPLEMENTARY INFORMATION: The following applicants have applied for scientific research permits to conduct certain activities with endangered species pursuant to section 10(a)(1)(A) of the Endangered Species Act (16 U.S.C. 1531 et seq.). The U.S. Fish and Wildlife Service (“we”) solicits review and comment from local, State, and Federal agencies, and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-809232

Applicant: Paul Holden, Logan, Utah.

The applicant requests an amendment to take (capture, and release) the Moapa Dace (Moapa coriacea) in conjunction with surveys in Clark County, Nevada for the purpose of enhancing its survival.

Permit No. TE-150547

Applicant: Anna Marie Schroeder, Santa Ana, California.

The applicant requests a permit to take (harass by survey, and nest monitor) the least Bell's vireo in conjunction with surveys and monitoring throughout the range of the species in California for the purpose of enhancing its survival.

Permit No. TE-150550

Applicant: Jerry D. Rowe, Martinez, California.

The permittee requests a permit to take (harass by survey, capture, and release) the California tiger salamander (Ambystoma californiense) in conjunction with surveys in Contra Costa, Alameda, Sonoma, Santa Clara, Santa Barbara, San Benito, Monterey, and Solano Counties, California for the purpose of enhancing its survival.

Permit No. TE-053598

Applicant: Nicole Shorey, San Diego, California.

The applicant requests a permit to take (capture, and collect and kill) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis) in conjunction with surveys throughout the range of each species in California for the purpose of enhancing their survival.

Permit No. TE-150561

Applicant: Denise L. LaBerteaux, Weldon, California.

The applicant requests a permit to take (harass by survey) the Southwestern willow flycatcher (Empidonax traillii extimus) in conjunction with surveys in San Diego, Imperial, Los Angeles, Orange, Riverside, San Bernardino, Kern, Inyo, Ventura, Santa Barbara, and San Luis Obispo Counties, California for the purpose of enhancing its survival.

Permit No. TE-027736

Applicant: David Erik LaCoste, Ramona, California.

The applicant requests a permit to take (harass by survey) the Southwestern willow flycatcher (Empidonax traillii extimus) in conjunction with surveys throughout the range of the species in California, for the purpose of enhancing its survival.

Permit No. TE-835365

Applicant: Barbara McDonnell, Sacramento, California.

The applicant requests a permit to take (capture, and collect and kill) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis) in conjunction with surveys throughout the range of each species in California for the purpose of enhancing their survival.

Permit No. TE-097845

Applicant: Scott Westfall, Lompoc, California.

The applicant requests a permit to take (survey by pursuit) the El Segundo blue butterfly (Euphilotes battoides allyni) in conjunction with surveys in Ventura County, California, for the purpose of enhancing its survival.

Permit No. TE-800291

Applicant: Anne Wallace, Grass Valley, California.

The applicant requests an amendment to take (monitor) the California least tern (Sterna antillarum browni) in conjunction with monitoring and other life history studies in Solano County, California, for the purpose of enhancing its survival.

Permit No. TE-819491

Applicant: Michael Fitzgerald, Durango, Colorado.

The permittee requests an amendment to take (harass by survey) the Southwestern willow flycatcher (Empidonax traillii extimus) in conjunction with surveys throughout the range of the species in California, for the purpose of enhancing its survival.

Permit No. TE-094642

Applicant: Howard B. Schaffer, Davis, California.

The applicant requests an amendment to take (capture, collect, and kill) the Conservancy fairy shrimp (Branchinecta conservatio) and vernal pool fairy shrimp (Lepidurus packardi) in conjunction with research and other life history studies in Solano, and Alameda Counties, California for the purpose of enhancing their survival.

We solicit public review and comment on each of these recovery permit applications. Our practice is to make comments, including names and home addresses of respondents, available for public review during regular business hours. Individual respondents may request that we withhold their home addresses from the record, which we will honor to the extent allowable by law. There also may be circumstances in which we would withhold from the record a respondent's identity, as allowable by law. If you wish us to withhold your name and/or address, you must state this prominently at the beginning of your comment, but you should be aware that we may be required to disclose your name and address pursuant to the Freedom of Information Act. However, we will not consider anonymous comments. We will make all submissions from organizations or businesses, and from individuals identifying themselves as representatives or officials of organizations or businesses, available for public inspection in their entirety. Comments and materials received will be available for public inspection, by appointment, during normal business hours at the above address.

Dated: May 22, 2007.
Michael Fris,
Acting Manager, California/Nevada Operations Office, U.S. Fish and Wildlife Service.

[FR Doc. E7-10248 Filed 5-25-07; 8:45 am]

BILLING CODE 4310-55-P